NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: 10 CFR Part 30, Rules of General Applicability to Domestic Licensing of Byproduct Material—Revision to include burden for license conditions and additional burden for transferring a license.

3. The form number if applicable: N/A.

4. How often the collection is required: On occasion. Reports are submitted upon license transfer or as events occur. Recordkeeping must be performed on an on-going basis.

5. Who will be required or asked to report: Persons applying for or holding a license to manufacture, produce, transfer, receive, acquire, own, possess, or use radioactive byproduct material.

6. An estimate of the number of responses: 567 (162 responses for NRC licensees and 405 responses for Agreement State licensees).

7. The estimated number of annual respondents: 6552 (1872 NRC licensees and 4680 Agreement State licensees).

8. An estimate of the total number of hours needed annually to complete the requirement or request: 2131 (an average of 2 hours per response for 567 responses and 9 minutes for each of 6552 recordkeepers).

9. An indication of whether section 3507(d), Pub. L. 104-13 applies: Not applicable.

10. Abstract: The NRC's regulations in 10 CFR Part 30 establish rules, applicable to all persons in the United States, governing domestic licensing of radioactive byproduct material. The NRC has identified two Sections of 10 CFR Part 30 that contain burden that has not been previously captured in the supporting statement for 10 CFR Part 30. This burden is submitted as an addition to the current 10 CFR Part 30 clearance. In 10 CFR 30.34(b), the NRC requires the submittal of information that may not have been required on the previously submitted Form 313, “Application for Material License.” In addition, 10 CFR 30.34(e)(4) permits the NRC to impose additional conditions in the license under certain circumstances. These conditions may require additional reporting and recordkeeping requirements. The conditions are used in conjunction with the requirements in Title 10 of the Code of Federal Regulations (10 CFR).

A copy of the final supporting statement may be viewed free of charge at the NRC Public Document Room, One White Flint North, 11555 Rockville Pike, Room O-1 F23, Rockville, MD 20852. OMB clearance requests are available at the NRC worldwide web site: http://www.nrc.gov/NRC/PUBLIC/OMB/index.html. The document will be available on the NRC home page site for 60 days after the signature date of this notice.

Comments and questions should be directed to the OMB reviewer listed below by October 12, 2001. Comments received after this date will be considered if it is practical to do so, but assurance of consideration cannot be given to comments received after this date.

Bryon Allen, Office of Information and Regulatory Affairs (3150-0017), NEOB-10202, Office of Management and Budget, Washington, DC 20503.

Comments can also be submitted by telephone at (202) 395-3087.

The NRC Clearance Officer is Brenda Jo. Shelton, 301-415-7233.

Dated at Rockville, Maryland, this 6th day of September 2001.
For the Nuclear Regulatory Commission.
Brenda Jo. Shelton,
NRC Clearance Officer, Office of the Chief Information Officer.

[FR Doc. 01-22862 Filed 9-11-01; 8:45 am]

BILLING CODE 7590-01-P